FEDERAL RETIREMENT THRIFT INVESTMENT BOARD

Notice of Board Meeting

DATES: August 27, 2024 at 10:00 a.m. EDT.

ADDRESSES: Telephonic. Dial-in (listen only) information: Number: 1-202-599-1426, Code: 202 098 496 #; or via web: https://teams.microsoft.com/l/meetup-join/19%3ameeting_MDMxZDRkODktMGZjZS00ZDQ3LWJkNmMtNzRjMDA4ZThkMDQ1%40thread.v2/0?context=%7b%22Tid%22%3a%223f6323b7-3fd-4f35-b43d-1a7afae5910d%22%2c%22Oid%22%3a%221a441fb8-5318-4ad0-995b-f28a737f4128%22%7d.

FOR FURTHER INFORMATION CONTACT: Kimberly Weaver, Director, Office of External Affairs, (202) 942-1640.

SUPPLEMENTARY INFORMATION: Board Meeting Agenda

Open Session

1. Approval of the July 23, 2024, Board Meeting Minutes

2. Monthly Reports

(a) Participant Report

(b) Investment Report

(c) Legislative Report

3. Quarterly Reports

(d) Metrics

4. Enterprise Risk Management Report

5. Internal Audit Update

6. FY2024 FISMA Report

7. FY2025 Budget Proposal

Closed Session

8. Information covered under 5 U.S.C. 552b(c)(9)(B) and (c)(10).

Authority: 5 U.S.C. 552b(e)(1).

Dated: August 15, 2024.
Dharmesh Vashee,
General Counsel, Federal Retirement Thrift Investment Board.

[FR Doc. 2024-18652 Filed 8-20-24; 8:45 am]

BILLING CODE 6760-01-P